DEPARTMENT OF HEALTH AND HUMAN SERVICES

National Institutes of Health

National Institute of Mental Health; Amended Notice of Meeting

Notice is hereby given of a change in the meeting of the National Institute of Mental Health Special Emphasis Panel, March 7, 2011, 8 a.m. to March 7, 2011, 5:30 p.m., The Mandarin Oriental, 1330 Maryland Avenue, SW., Washington, DC 20024 which was published in the Federal Register on February 9, 2011, 76 FR 7224.

The meeting date remains the same, the times have changed to 10 a.m. to 4 p.m., and the meeting will now be held via Teleconference at the Neuroscience Center, 6001 Executive Blvd., Rockville, MD 20850. The meeting is closed to the public.

Dated: February 22, 2011.
Jennifer S. Spaeth,
Director, Office of Federal Advisory Committee Policy.

[FR Doc. 2011-4379 Filed 2-25-11; 8:45 am]

BILLING CODE 4140-01-P